ELECTION ASSISTANCE COMMISSION

Sunshine Act Meetings

AGENCY: U.S. Election Assistance Commission.

ACTION: Sunshine Act Notice; correction.

SUMMARY: The U.S. Election Assistance Commission published a document in the Federal Register on July 2, 2020: Public Hearing: U.S. Election Assistance Commission Standards Board Annual Meeting.

Correction

In the Federal Register on July 2, 2020 in FR Doc. 2020-14428 on page 39894 in the first column, correct the Dates to read:

DATES: Friday, July 31, 2020 1:30 p.m.-4:30 p.m. Eastern.

FOR FURTHER INFORMATION CONTACT: Kristen Muthig, Telephone: (202) 897-9285, Email: kmuthig@eac.gov.

Amanda Joiner,
Associate Counsel, U.S. Election Assistance Commission.

[FR Doc. 2020-14889 Filed 7-7-20; 11:15 am]

BILLING CODE 6820-KF-P